ENVIRONMENTAL PROTECTION AGENCY

[FRL-7409-7]

National Environmental Justice Advisory Council; Notification of Meeting and Public Comment Period; Open Meetings

Pursuant to the Federal Advisory Committee Act (FACA), Public Law 92-463, we now give notice that the National Environmental Justice Advisory Council (NEJAC), along with the various subcommittees, will meet on the dates and times described below. All times noted are eastern standard time. All meetings are open to the public. Due to limited space, seating at the NEJAC meeting will be on a first-come basis. Documents that are the subject of NEJAC reviews are normally available from the originating EPA office and are not available from the NEJAC. The NEJAC and the subcommittee meetings will take place at the Marriot Inner Harbor Hotel, 110 South Eutaw Street, Baltimore, MD 21201. The meeting dates are as follows: December 9, 2002, through December 12, 2002. This is the fifth in a series of focused policy issue meetings for the NEJAC. To help prepare for this specific focused policy issue meeting the following background information is provided:

Request and Policy Issue

The Charter for the NEJAC states that the advisory committee shall provide independent advice to the Administrator on areas that may include, among other things, “advice on EPA's progress, quality and adequacy in planning, developing and implementing environmental justice strategies, projects and programs” relating to environment justice. In order to provide such independent advice, the Agency requests that the NEJAC convene a focused, issue-oriented public meeting in Baltimore, MD. The meeting shall be used to receive comments on, discuss, and analyze issues related to water quality, fish consumption and environmental justice. The Agency, furthermore, requests that the NEJAC produce a comprehensive report on the differing views, interests, concerns, and perspectives expressed by the stakeholder participants on the focused policy issue, and provide advice and recommendations for the Agency's review and consideration. In order to fulfill this charge, the NEJAC is being asked to discuss and provide recommendations regarding the following broad public policy question: “How can EPA better promote innovation in the field of pollution prevention, waste minimization, and related areas to more effectively ensure clean, healthy and sustainable environment for all people, including low income, minority and tribal communities?”

Meeting

Registration for the NEJAC meeting will begin on Monday, December 9, 2002, at 12 noon. The NEJAC will convene Monday, December 9, 2002, from 3 p.m. to 6 p.m. On Monday from 4 p.m. to 6 p.m. there will be Pollution Prevention Case Study Presentation. The NEJAC will reconvene on Tuesday, December 10, 2002, from 8:30 a.m. to 5 p.m. The meeting on Tuesday will be organized to create the best environment for a deliberative process. The meeting will be conducted in a round table fashion, except during the public comment session. A public comment period dedicated to the focused policy issue is scheduled for Tuesday evening, December 10, 2002, from 7 p.m. to 9 p.m. General environmental justice public comment issues will be heard on Tuesday evening, following the focus policy public comment issues. The following Subcommittees will meet on Wednesday, December 11, 2002, from 9 a.m. to 6 p.m.: Air and Water; Enforcement; Health and Research; Indigenous Peoples; International; and Waste and Facility Siting. The full NEJAC will reconvene Thursday, December 12, 2002, from 9 a.m. to 5 p.m. to wrap up all business requiring Executive Council action. All times shown are local time.

Any member of the public wishing additional information on the subcommittee meetings should contact the specific Designated Federal Official at the telephone number listed below.

Subcommittee | Federal official | Telephone number
Enforcement | Ms. Shirley Pate | 202/564-2607
Health & Research | Ms. Brenda Washington | 202/564-6781
| Ms. Aretha Brockett | 202/564-0911
International | Ms. Wendy Graham | 202/564-6602
Indigenous Peoples | Mr. Danny Gogal | 202/564-2576
Waste/Facility Siting | Mr. Kent Benjamin | 202/566-0185
Air & Water | Mr. Wil Wilson | 202/564-1954
| Ms. Alice Walker | 202/564-0498

Members of the public who wish to participate in the public comment period should pre-register by November 29, 2002. Members of the public are encouraged to provide comments relevant to the focus issue being deliberated by the NEJAC. Individuals or groups making oral presentations during the public comment period will be limited to a total time of five minutes. Only one representative from a community, organization, or group will be allowed to speak. Any number of written comments can be submitted for the record. The suggested format for individuals making public comment should be as follows:

Request to Make Public Comment Speaker's Template:

Name of Speaker:

Name of Organization/Community:

Address/Phone/Fax/Email:

Description of Concern:

Relationship to the Policy Issue:

Recommendations/Desired Outcome:

If you wish to submit written comments of any length (at least 50 copies), they should also be received by November 29, 2002. Comments received after that date will be provided to the Council as logistics allow. All information should be sent to the address or fax number cited below.

Registration

Pre-registration for all attendees is recommended. To receive a registration form, call the number listed below or visit the web site. Correspondence concerning registration should be sent to Ms. Victoria Robinson of Tetra Tech Environmental Management, Inc. at: 1881 Campus Commons, Suite 200, Reston, VA 20191, phone: 703/390-0641 or fax: 703/391-5876. Hearing-impaired individuals or non-English speaking attendees wishing to arrange for a sign language or foreign language interpreter, may make appropriate arrangements using these numbers also. In addition, NEJAC offers a toll-free Registration Hotline at 1-888/335-4299 or send an e-mail to nejac@ttemi.com. For on-line registration, you may visit the Internet site: http://www.epa.gov/compliance/environmentaljustice/nejac/next_meeting.html.

Dated: November 8, 2002.
Charles Lee,
Designated Federal Officer, National Environmental Justice Advisory Council.

[FR Doc. 02-29174 Filed 11-15-02; 8:45 am]

BILLING CODE 6560-50-P